DEPARTMENT OF ENERGY

Federal Energy Regulatory Commission

[Docket No. RP03-406-002]

Blue Lake Gas Storage Company; Notice of Compliance Filing

September 17, 2003.

Take notice that on September 12, 2003, Blue Lake Gas Storage Company (Blue Lake), tendered for filing as part of its FERC Gas Tariff, First Revised Volume No. 1 Substitute Third Revised Sheet No. 15A and Second Sub Tenth Revised Sheet No. 153 1.

Blue Lake states that these tariff sheets are being filed in compliance with the Commission's Letter Order dated September 4, 2003, requiring Blue Lake, as part of its Order 587-R Compliance Filing, to specify the recall quantity in terms of either “total released capacity entitlements” or “adjusted total released capacity entitlements based upon the elapsed Prorata Capacity” pursuant to WGQ Standard 5.3.55. Blue Lake states that it has removed this standard from the reference list, and opted for the latter terminology to be included verbatim in its tariff.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 24, 2003.

Magalie R. Salas,
Secretary.

[FR Doc. 03-24241 Filed 9-24-03; 8:45 am]

BILLING CODE 6717-01-P